DEPARTMENT OF DEFENSE

Defense Finance and Accounting Service; Privacy Act of 1974; Systems of Records

AGENCY: Defense Finance and Accounting Service, DoD.

ACTION: Notice to Amend a System of Records; T7330 DFAS Payroll Locator File System (PLFS).

SUMMARY: The Defense Finance and Accounting Service is amending a system of records notice to its existing inventory of record systems subject to the Privacy Act of 1974 (5 U.S.C. 552a), as amended.

DATES: This action will be effective without further notice on October 3, 2005 unless comments are received that would result in a contrary determination.

ADDRESSES: Send comments to Ms. Linda Krabbenhoft, Freedom of Information Act/Privacy Act Program Manager, Defense Finance and Accounting Service, Denver, 6760 E. Irvington Place, Denver, CO 80279-8000, telephone (303) 676-6045.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: August 25, 2005.
Jeannette Owings-Ballard,
OSD Federal Register Liaison Officer, Department of Defense.

T7330

System name:

DFAS Payroll Locator File System (PLFS) (November 29, 2002, 67 FR 71150).

Changes:

* * * * *

Retention and disposal:

Delete entry and replace with “Cutoff and destroy when record is superseded or becomes obsolete.”

* * * * *

T7330

System name:

DFAS Payroll Locator File System (PLFS).

System location:

Defense Finance and Accounting Service—Cleveland, 1240 East Ninth Street, P.O. Box 998002, Cleveland, OH 44199-8002.

Categories of individuals covered by the system:

Any individual who is paid by the Defense Finance and Accounting Service is in this payroll locator file.

Categories of records in the system:

The locator file contains the individual's name, Social Security number, and payroll office.

Authority for maintenance of the system:

5 U.S.C. 301, Departmental Regulations; DoD Financial Management Regulation 7000.14-R, Volumes 7A, 7B, 7C, 8, and 13; and E.O. 9397 (SSN).

Purpose(s):

This system of records is being established for the purpose of providing the Department of Defense with a single locator file that identifies those individuals paid by the Defense Finance and Accounting Service, the individual's employment status, and their payroll office location.

All records in this system are subject to use in authorized computer matching programs within the Department of Defense and with other Federal agencies or non-Federal agencies as regulated by the Privacy Act of 1974, as amended, (5 U.S.C. 552a).

Routine uses of records maintained in the system, including categories of users and the purposes of such uses:

In addition to those disclosures generally permitted under 5 U.S.C. 552a(b) of the Privacy Act, these records or information contained therein, may specifically be disclosed outside the DoD as a routine use pursuant to 5 U.S.C. 552a(b)(3) as follows:

To the U.S. Treasury for the purpose of effecting salary offset procedures under the provisions of 5 U.S.C. 5514, against a person who owes a debt to the U.S. Government.

The DoD “Blanket Routine Uses” published at the beginning of the DFAS compilation of systems of records notices apply to this system.

Policies and practices for storing, retrieving, accessing, retaining, and disposing of records in the system:

Storage:

Records are maintained on electronic media.

Retrievability:

Retrieved by individual's name and Social Security Number.

Safeguards:

Records are accessed by persons responsible for servicing the records and others who are authorized by the DFAS systems administrator at DFAS Cleveland, to use the record system in performance of their official duties. Records are stored in secured office buildings protected by guards and controlled by screening of personnel and the registration of visitors.

Retention and disposal:

Cutoff and destroy when record is superseded or becomes obsolete.

System manager(s) and address:

Assistant General Counsel, Garnishment Operations, Defense Finance and Accounting Service—Cleveland, 1240 East Ninth Street, P.O. Box 998002, Cleveland, OH 44199-8002.

Notification procedure:

Individuals seeking to determine whether information about themselves is contained in this system of records should address written inquiries to the Privacy Act Officer, Defense Finance and Accounting Service—Cleveland, 1240 East Ninth Street, Cleveland, OH 44199-8006.

Individuals should provide their full name and Social Security Number.

Record access procedures:

Individuals seeking access to information about themselves contained in this system of records should address written inquiries to Privacy Act Officer, Defense Finance and Accounting Service—Cleveland, 1240 East Ninth Street, Cleveland, OH 44199-8006.

Individuals should provide their full name and Social Security Number.

Contesting record procedures:

The DFAS rules for accessing records, for contesting contents and appealing initial agency determinations are published in DFAS Regulation 5400.11-R; 32 CFR part 324; or may be obtained from the Freedom of Information/Privacy Act Program Manager, Office of Corporate Communications, 6760 E. Irvington Place, Denver, CO 80279-8000.

Records source categories:

Defense Finance and Accounting Service payroll systems.

Exemptions claimed for the system:

None.

[FR Doc. 05-17300 Filed 8-31-05; 8:45 am]

BILLING CODE 5001-06-P